DEPARTMENT OF THE INTERIOR

Bureau of Indian Affairs

Indian Gaming

AGENCY: Bureau of Indian Affairs, Interior.

ACTION: Notice of amendment to approved Tribal-State Compact.

SUMMARY: This notice publishes the Approval of the Tribal-State Compact for Class III Gaming Amendments between the State of Washington and the Chehalis Confederated Tribes, Confederated Tribes of the Colville Reservation, Hoh Indian Tribe, Jamestown S'Klallam Tribe, Kalispel Tribe of Indians, Lower Elwha Klallam Tribe, Lummi Indian Nation, Makah Nation, Muckleshoot Indian Tribe, Nisqually Indian Tribe, Nooksack Indian Tribe, Port Gamble S'Klallam Tribe, Puyallyup Tribe of Indians, Quileute Indian Tribe, Quinault Indian Nation, Samish Indian Nation, Sauk-Suiattle Indian Tribe, Shoalwater Bay Tribe, Skokomish Indian Tribe, Snoqualmie Tribe, Squaxin Island Tribe, Stillaguamish Tribe, Suquamish Tribe, Swinomish Tribe, Tulalip Tribes, Upper Skagit Tribe, and the Yakama Nation.

DATES: Effective Date: May 31, 2007.

FOR FURTHER INFORMATION CONTACT: George T. Skibine, Director, Office of Indian Gaming, Office of the Deputy Assistant Secretary—Policy and Economic Development, Washington, DC 20240, (202) 219-4066.

SUPPLEMENTARY INFORMATION: Pursuant to Section 11 of the Indian Gaming Regulatory Act of 1988 (IGRA), Public Law 100-497, 25 U.S.C. 2710, the Secretary of the Interior shall publish in the Federal Register notice of the approved Tribal-State compacts for the purpose of engaging in Class III gaming activities on Indian lands. This Amendment, effective today, authorizes changes to the authorized games section of the tribes compact. Those changes include changes to the Tribal Lottery Systems in accordance with state law.

George T. Skibine,
Acting Principal Deputy Assistant Secretary—Indian Affairs.

[FR Doc. E7-10397 Filed 5-30-07; 8:45 am]

BILLING CODE 4310-4N-P